DEPARTMENT OF COMMERCE

National Oceanic and Atmospheric Administration

RIN 0648-XE154

Endangered Species; File No. 18926

AGENCY: National Marine Fisheries Service (NMFS), National Oceanic and Atmospheric Administration (NOAA), Commerce.

ACTION: Notice; receipt of application.

SUMMARY: Notice is hereby given that Jane Provancha, Mail Code: IHA-005 OHF, Room 1104, Kennedy Space Center, FL 32815 has applied in due form for a permit to take green sea (Chelonia mydas), loggerhead (Caretta caretta), Kemp's ridley (Lepidochelys kempii), and hawksbill (Eretmochelys imbricata) sea turtles for purposes of scientific research.

DATES: Written, telefaxed, or email comments must be received on or before October 14, 2015.

ADDRESSES: The application and related documents are available for review by selecting “Records Open for Public Comment” from the “Features” box on the Applications and Permits for Protected Species (APPS) home page, https://apps.nmfs.noaa.gov, and then selecting File No. 18926 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Brendan Hurley or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a five-year permit to continue monitoring the abundance and distribution of sea turtles inhabiting the waters of the northern Indian River Lagoon and Mosquito Lagoon system (in Volusia and Brevard Counties), Florida. The purpose of this project is to provide NASA-Kennedy Space Center with updates on the status of marine turtles within its boundaries and nearby waters. This area also will continue to be used as an index site to document distribution and movement of individuals in these waters. The applicant requests to capture by hand, tangle, or dip net up to 50 green, one Kemp's ridley, 1 hawksbill, and 50 loggerhead turtles, each year. Turtles will be placed onboard a research vessel for morphometric measures, tagging, photographs, tissue and blood sampling, and/or possible lavage, before release. A subset of captured turtles may also be released with sonic transmitters glued to the carapace.

Dated: September 8, 2015.
Julia Harrison,
Chief, Permits and Conservation Division, Office of Protected Resources, National Marine Fisheries Service.

[FR Doc. 2015-23007 Filed 9-11-15; 8:45 am]

BILLING CODE 3510-22-P